NUCLEAR REGULATORY COMMISSION

10 CFR Chapter I

[NRC-2025-0055]

Draft Regulatory Issue Summary: Applicability of Requirements During the Movement of Radioactive Material Within a Temporary Jobsite

AGENCY: Nuclear Regulatory Commission.

ACTION: Notice; request for comment.

SUMMARY: The U.S. Nuclear Regulatory Commission (NRC) is seeking public comment on a draft regulatory issue summary (RIS) clarifying the requirements for the transport of radioactive material within a temporary jobsite. NRC regulations provide requirements for packaging, preparation for shipment, and transportation of licensed material. The regulations apply to any licensee authorized by specific or general license issued by the Commission to receive, possess, use, or transfer licensed material, if the licensee delivers that material to a carrier for transport, transports the material outside the site of usage as specified in the NRC license, or transports that material on public highways.

DATES: Submit comments by May 5, 2025. Comments received after this date will be considered if it is practical to do so, but the Commission is able to ensure consideration only for comments received on or before this date.

ADDRESSES: You may submit comments by any of the following methods; however, the NRC encourages electronic comment submission through the Federal rulemaking website:

• Federal rulemaking website: Go to https://www.regulations.gov and search for Docket ID NRC-2025-0055. Address questions about Docket IDs in Regulations.gov to Bridget Curran; telephone: 301-415-1003; email: Bridget.Curran@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Phyllis Clark, Office of Nuclear Reactor Regulation, U.S. Nuclear Regulatory Commission, Washington, DC 20555-0001; telephone: 301-415-6447; email: Phyllis.Clark@nrc.gov.

SUPPLEMENTARY INFORMATION:

I. Obtaining Information and Submitting Comments

A. Obtaining Information

Please refer to Docket ID NRC-2025-0055 when contacting the NRC about the availability of information for this action. You may obtain publicly available information related to this action by any of the following methods:

• Federal Rulemaking Website: Go to https://www.regulations.gov and search for Docket ID NRC-2025-0055.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. Draft RIS 2025-XX, “Applicability of Title 10 of the Code of Federal Regulations Part 71 Requirements During the Movement of Radioactive Material Within a Temporary Jobsite,” is available in ADAMS under Accession No. ML24206A139.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

B. Submitting Comments

The NRC encourages electronic comment submission through the Federal rulemaking website (https://www.regulations.gov). Please include Docket ID NRC-2025-0055 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Background

NRC staff and other stakeholders have recently raised questions about the applicability of certain requirements in part 71 of title 10 of the Code of Federal Regulations (10 CFR), “Packaging and Transportation of Radioactive Material” to NRC licensed service providers operating within a temporary jobsite that is authorized pursuant to the service provider's license.

The NRC is issuing this draft RIS to clarify the applicability of the requirements of 10 CFR part 71, “Packaging and Transportation of Radioactive Material,” for the transport of radioactive material within a temporary jobsite. This draft RIS requires no action or written response on the part of any addressee.

The draft RIS clarifies that, during movement of radioactive materials for the purpose of transport by an NRC licensed service provider within a temporary jobsite (as defined by the applicable section of 10 CFR), the regulations at 10 CFR 71.5(a) and 10 CFR 71.5(b) are not applicable so long as the activities are within an area established as a temporary jobsite pursuant to the service provider's license.

As noted in the Federal Register on June 8, 2018 (83 FR 20858), this document is being published in the “Proposed Rules” section of the Federal Register to comply with publication requirements under 10 CFR chapter I.

III. Proposed Action

The NRC is requesting public comments on the draft RIS. All comments that are to receive consideration in the final RIS must be submitted electronically or in writing as indicated in the ADDRESSES section of this document. The NRC staff will make a final determination regarding issuance of the RIS after it considers any public comments received in response to this request.

For the Nuclear Regulatory Commission.
Dated: March 3, 2025.
Brian Benney,
Acting Chief, Generic Communication and Operating Experience Branch, Division of Reactor Oversight, Office of Nuclear Reactor Regulation.

[FR Doc. 2025-03638 Filed 3-5-25; 8:45 am]

BILLING CODE 7590-01-P